DEPARTMENT OF LABOR

Employment and Training Administration

[TA-W-80,405]

Schweizer Aircraft Corporation, a Subsidiary of Sikorsky Aircraft Corporation, a Division of United Technologies, Inc., DBA Sikorsky Military Completion Center, Including On-Site Leased Workers From Adecco, Aerotek, Inc., Aquinas Consulting & Staffing Solutions, Belcan Engineering Group, Butler America, LLC., Cameron Mfg. and Design, Inc., Express Employment Professionals, Kelly Engineering, Kelly Services, Inc., New Era Recruiting, Normatec Consultings, Inc., RCM Technologies, Morris Protective Service, Inc., Pinkerton Government Services, Temco Service, Inc., and Wesco Distribution, Inc. and Including Dr. Marc Immerman and Mr. Dominic Insogna Horseheads, New York; Amended Certification Regarding Eligibility To Apply for Worker Adjustment Assistance

In accordance with Section 223 of the Trade Act of 1974, as amended (“Act”), 19 U.S.C. 2273, the Department of Labor issued a Certification of Eligibility to Apply for Worker Adjustment Assistance on December 28, 2011, applicable to workers and former workers of Schweizer Aircraft Corporation, a subsidiary of Sikorsky Aircraft Corporation, a division of United Technologies, Inc., dba Sikorsky Military Completion Center, including on-site leased workers from Adecco, Aerotek, Inc., Aquinas Consulting & Staffing Solutions, Belcan Engineering Group, Butler America, LLC., Cameron Mfg. and Design, Inc., Express Employment Professionals, Kelly Engineering, Kelly Services, Inc., New ERA Recruiting, Normatec Consultants, Inc., and RCM Technologies, Horseheads, New York.

Workers of Schweizer Aircraft Corporation, a subsidiary of Sikorsky Aircraft Corporation, a division of United Technologies, Inc., Horseheads, New York (Schweizer) are engaged in activities related to the production of helicopters and surveillance aircraft. The Department's Notice of determination was published in the Federal Register on January 12, 2012 (77 FR 1951).

At the request of State of New York, the Department reviewed the certification for workers of Schweizer. New information from the subject firm shows that workers leased from Morris Protective Service, Inc., Pinkerton Government Services, Temco Service, Inc., and Wesco Distribution, Inc., and two individuals were employed on-site at Schweizer. The Department has determined that these workers were sufficiently under the control of the Horsehead, New York location to be considered leased workers.

The intent of the Department's certification is to include all workers of Schweizer who were adversely affected by increased aggregate imports of helicopters and surveillance aircraft.

Based on these findings, the Department is amending this certification to include workers leased from Morris Protective Service, Inc., Pinkerton Government Services, Temco Service, Inc., and Wesco Distribution, Inc., and including Dr. Marc Immerman and Mr. Dominic Insogna, who worked on-site at the Horseheads, New York location of Schweizer. The amended notice applicable to TA-W-80,405 is hereby issued as follows:

“All workers from Schweizer Aircraft Corporation, a subsidiary of Sikorsky Aircraft Corporation, a division of United Technologies Corporation, dba Sikorsky Military Completion Center, including on-site leased workers from Adecco, Aerotek, Inc., Aquinas Consulting & Staffing Solutions, Belcan Engineering group, Butler America, LLC., Cameron Mfg. and Design, Inc., Express Employment Professionals, Kelly Engineering, Kelly Services, Inc., New Era Recruiting, Normatec Consultants, Inc., RCM Technologies, Morris Protective Services, Inc., Pinkerton Government Services, Temco Service, and Wesco Distribution, Inc., and including Dr. Marc Immerman and Mr. Dominic Insogna, Horseheads, New York, who became totally or partially separated from employment on or after August 30, 2010, through December 28, 2013, and all workers in the group threatened with total or partial separation from employment on December 28, 2011 through December 28, 2013, are eligible to apply for adjustment assistance under Chapter 2 of Title II of the Trade Act of 1974, as amended.”

Signed at Washington, DC this 16th day of November, 2012.
Elliott S. Kushner,
Certifying Officer, Office of Trade Adjustment Assistance.

[FR Doc. 2013-00103 Filed 1-7-13; 8:45 am]

BILLING CODE 4510-FN-P